DEPARTMENT OF COMMERCE

Bureau of Industry and Security

Order Renewing Order Temporarily Denying Export Privileges

In the matter of:

3K Aviation Consulting & Logistics, a/k/a 3K Havacilik Ve Danismanlik SAN. TIC. LTD. ST., Biniciler Apt. Savas Cad. No. 18/5, Sirinyali Mah. 07160, Antalya, Turkey and

Sonmez Apt. No. 4/5 1523 Sokak Sirinyali Mah. 07160 Antalya, Turkey

Huseyin Engin Borluca, Biniciler Apt. Savas Cad. No. 18/5, Sirinyali Mah. 07160, Antalya, Turkey and

Sonmez Apt. No. 4/5 1523 Sokak, Sirinyali Mah. 07160, Antalya, Turkey

Pouya Airline a/k/a Pouya Air Mehrebad Airport, Tehran, Iran

Evans Meridians Ltd., Drake Chambers, 1st Floor, Yamraj Building, P.O. Box 3321, Road Town, Tortola, British Virgin Islands, Respondents.

Pursuant to Section 766.24 of the Export Administration Regulations, 15 CFR Parts 730-774 (2014) (“EAR” or the “Regulations”), I hereby grant the request of the Office of Export Enforcement (“OEE”) to renew the January 3, 2014 Order Temporarily Denying the Export Privileges of 3K Aviation Consulting & Logistics, also known as 3K Havacilik Ve Danismanlik SAN. TIC. LTD. ST. (“3K Aviation”); Huseyin Engin Borluca (“Borluca”), 3K's Aviation founder and director; Pouya Airline, also known as Pouya Air; and Evans Meridians Ltd. I find that renewal of the Temporary Denial Order (“TDO”) is necessary in the public interest to prevent an imminent violation of the EAR.

I. Procedural History and Background

On January 3, 2014, I signed a TDO denying for 180 days the export privileges of 3K Aviation, Borluca, Pouya Airline, and Adaero International Trade, LLC and its managing director, Recep Sadettin Ilgin.¹ The TDO was issued ex parte pursuant to Section 766.24(a), and went into effect upon issuance on January 3, 2014. Copies of the TDO were sent to the respondents named in the January 3, 2014 order in accordance with Sections 766.5 and 766.24(d) of the Regulations, and on January 10, 2014, the TDO was published in the Federal Register. 79 FR 1,823 (Jan. 10, 2014).

¹ OEE did not seek renewal of the TDO as to Adaero International Trade, LLC, or its managing director, Recep Sadettin Ilgin.

On January 30, 2014, I issued an Order modifying the TDO to add Evans Meridians Ltd. (“Evans Meridians”) as an additional respondent.² In its modification request, OEE presented evidence demonstrating that Evans Meridians was involved with the transaction described in the TDO. Prior to issuance of the TDO on January 3, 2014, OEE did not have evidence of Evans Meridians' relationship to the items or role in the transaction.

² The January 30, 2014 Modification Order was sent in accordance with Sections 766.5 and 766.24(d) of the Regulations to the respondents named in that order and, on February 6, 2014, was published in the Federal Register. 79 FR 7169 (Feb. 6, 2014).

In support of the original TDO and modification, OEE presented evidence that in December 2013, two U.S.-origin General Electric CF6 aircraft engines ³ bearing manufacturer's serial numbers (“MSNs”) 695244 and 705112, respectively, had been exported to 3K Aviation, which is located in Turkey, and that 3K Aviation was preparing to re-export the engines to Iran without the U.S. Government authorization required by Section 746.7 of the EAR. OEE had further information that Pouya Airline, an Iranian cargo airline, was scheduled to transport both engines from Turkey to Iran on January 7, 2014.

³ The engines are items subject to the Regulations, classified under Export Control Classification Number 9A991.d, and controlled for anti-terrorism reasons.

As mentioned above, OEE obtained evidence following issuance of the TDO of Evans Meridians' involvement in the attempted export or reexport of the items to Iran. OEE presented evidence as part of its request to modify the TDO that Evans Meridians appeared on documents as the purchaser and had acted as the owner of the items in connection with their transfer to 3K Aviation en route to Iran. OEE also provided evidence showing that, in violation of the TDO, Evans Meridians made and 3K Aviation accepted payment of approximately $100,000 for customs storage fees for the engines on or about January 21, 2014, that is, 18 days after the TDO issued on January 3, 2014, and 11 days after publication of the TDO on January 10, 2014. The most recent evidence available shows the two aircraft engines remain in the possession and/or control of 3K Aviation in Turkey.

The current TDO dated January 3, 2014, will expire on July 1, 2014, unless renewed on or before that date. On June 10, 2014, OEE submitted a written request for renewal of the TDO as to 3K Aviation, Borluca, Pouya Airline, and Evans Meridians. Notice of the renewal request was provided in accordance with Sections 766.5 and 766.24(d) of the Regulations. No opposition to any aspect of the requested renewal has been received.

II. TDO Renewal

A. Legal Standard

Pursuant to Section 766.24(b) of the Regulations, BIS may issue or renew an order temporarily denying a Respondent's export privileges upon a showing that the order is necessary in the public interest to prevent an “imminent violation” of the Regulations. 15 CFR 766.24(b)(1). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that “the violation under investigation or charges is significant, deliberate, covert and/or likely to occur again, rather than technical or negligent [.]” Id. A “lack of information establishing the precise time a violation may occur does not preclude a finding that a violation is imminent, so long as there is sufficient reason to believe the likelihood of a violation.” Id.

B. Request for Renewal

OEE's request for renewal is based upon the facts underlying the issuance of the initial TDO and modification and the evidence developed over the course of this investigation, including the evidence summarized in Section I., supra. The two aircraft engines remain in the possession and/or control of 3K Aviation in Turkey. In addition to the evidence discussed or summarized above, OEE's investigation also has revealed that 3K Aviation has more recently been instructed by a party, whose identity it will not disclose, to prepare the engines (MSNs 695244 and 705112) for shipment from Turkey. This evidence further supports OEE's reasonable belief of a continued risk that further attempts likely will be made to reexport the items from Turkey without U.S. Government authorization, in violation of the TDO and the Regulations.

C. Findings

I find that the evidence presented by OEE demonstrates that a violation of the Regulations is imminent in both time and degree of likelihood. Renewal of the TDO is needed to give notice to persons and companies in the United States and abroad that they should cease dealing with the Respondents in export and re-export transactions involving items subject to the EAR or other activities prohibited by the TDO. Doing so is consistent with the public interest to preclude future violations of the EAR.

It is therefore ordered:

First, that 3K AVIATION CONSULTING & LOGISTICS, a/k/a 3K HAVACILIK VE DANISMANLIK SAN. TIC. LTD. ST., Biniciler Apt. Savas Cad. No. 18/5, Sirinyali Mah. 07160, Antalya, Turkey, and Sonmez Apt. No. 4/5 1523 Sokak, Sirinyali Mah. 07160, Antalya, Turkey; HUSEYIN ENGIN BORLUCA, Biniciler Apt. Savas Cad. No. 18/5, Sirinyali Mah. 07160, Antalya, Turkey, and Sonmez Apt. No. 4/5 1523 Sokak, Sirinyali Mah. 07160, Antalya, Turkey; POUYA AIRLINE, a/k/a POUYA AIR, Mehrebad Airport, Tehran, Iran; and EVANS MERIDIANS LTD., Drake Chambers, 1st Floor, Yamraj Building, P.O. Box 3321, Road Town, Tortola, British Virgin Islands; and when acting for or on their behalf, any successors or assigns, agents, or employees (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of a Denied Person any item subject to the EAR;

B. Take any action that facilitates the acquisition or attempted acquisition by a Denied Person of the ownership, possession, or control of any item subject to the EAR that has been or will be exported from the United States, including financing or other support activities related to a transaction whereby a Denied Person acquires or attempts to acquire such ownership, possession or control;

C. Take any action to acquire from or to facilitate the acquisition or attempted acquisition from a Denied Person of any item subject to the EAR that has been exported from the United States;

D. Obtain from a Denied Person in the United States any item subject to the EAR with knowledge or reason to know that the item will be, or is intended to be, exported from the United States; or

E. Engage in any transaction to service any item subject to the EAR that has been or will be exported from the United States and which is owned, possessed or controlled by a Denied Person, or service any item, of whatever origin, that is owned, possessed or controlled by a Denied Person if such service involves the use of any item subject to the EAR that has been or will be exported from the United States. For purposes of this paragraph, servicing means installation, maintenance, repair, modification or testing.

Third, that, after notice and opportunity for comment as provided in section 766.23 of the EAR, any other person, firm, corporation, or business organization related to a Denied Person by affiliation, ownership, control, or position of responsibility in the conduct of trade or related services may also be made subject to the provisions of this Order.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose such a request to renew this Order by filing a written submission with the Assistant Secretary for Export Enforcement, which must be received not later than seven days before the expiration date of the Order.

A copy of this Order shall be served on the Respondents and shall be published in the Federal Register.

This Order is effective immediately and shall remain in effect for 180 days.

Dated: July 1, 2014.
David W. Mills,
Assistant Secretary of Commerce for Export Enforcement.

[FR Doc. 2014-15875 Filed 7-7-14; 8:45 am]

BILLING CODE XXXX-XX-P